DEPARTMENT OF ENERGY

Federal Energy Regulatory Commission

[Project No. 13509-000]

Turnagain Arm Tidal Energy Corporation; Notice of Amended Preliminary Permit Application Accepted for Filing, and Soliciting Comments, Motions To Intervene, and Competing Applications

November 25, 2009.

On August 31, 2009, Little Susitna Construction Company, Inc., filed an application for a preliminary permit, pursuant to section 4(f) of the Federal Power Act, proposing to study the feasibility of the Turnagain Arm Tidal Electric Generation Project (Turnagain Arm Project or project), located on the Turnagain Arm of Cook Inlet and adjacent lands of the Kenai Peninsula Borough and the Municipality of Anchorage, Alaska. On September 3, 2009, the Commission issued a Notice of Acceptance of the August 31, 2009 application and sent an acceptance letter to Little Susitna Construction Company, Inc. Subsequently, on November 17, 2009, Little Susitna Construction Company, Inc. amended its preliminary permit application to change its name to Turnagain Arm Tidal Energy Corporation.

Pursuant to 18 CFR 4.35, the September 3, 2009 Notice of Application and acceptance letter are rescinded, and the acceptance date for the application is now November 17, 2009.

The sole purpose of a preliminary permit, if issued, is to grant the permit holder priority to file a license application during the permit term. A preliminary permit does not authorize the permit holder to perform any land disturbing activities or otherwise enter upon lands or waters owned by others without the owners' express permission.

The proposed project would consist of the following: (1) Proposed 8-mile-long and 7.5-mile long tidal “fences” containing a total of 220 10-megawatt (MW) Davis Turbine tidal-to-electrical energy generating units (total installed capacity equal to 2,200 MW)—the 8-mile-long tidal fence would extend from just south of Fire Island to Kenai Peninsula Borough land at Possession Point and the 7.5-mile-long tidal fence would extend from a point about 5-7 miles south of Fire Island to a point offshore of Anchorage; (2) two proposed control buildings—one near the southwest end of the 8-mile-long tidal fence at Possession Point (Possession Point control building) and one in Anchorage along Raspberry Road (Anchorage control building)—containing equipment for controlling the turbines and the interties of the transmission lines to existing area electrical grids; (3) a pair of proposed 44-mile-long, 230-kilovolt (kV) transmission lines extending southwest from the Possession Point control building to a Homer Electric substation near the unincorporated community of Nikiski; (4) a proposed single, 17-mile-long, 230-kV above and below water transmission line extending from the Possession Point control building, across the 8-mile-long tidal fence, and to the Anchorage control building; (5) a pair of proposed 10-mile-long, 230-kV transmission lines extending from the Anchorage control building to a Chugach Electric substation in Anchorage; (6) a proposed 18-mile-long, 230-kV above and below water transmission line extending from the Possession Point control building, over the 7.5-mile-long tidal fence, and to the Anchorage control building; and (7) appurtenant facilities. The proposed project would have an estimated average annual generation of 11,560,000 megawatt-hours.

Applicant Contact: Dominic S.F. Lee, P.E., or Tamara L. Smith; Turnagain Arm Tidal Energy Corporation; 821 N St., Suite 201, Anchorage, AK 99501; Ph. (907) 274-7571.

FERC Contact: Nick Jayjack, 202-502-6073.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings, please go to the Commission's Web site located at http://www.ferc.gov/filing-comments.asp. More information about this project, including a copy of the application, can be viewed or printed on the “eLibrary” link of Commission's Web site at http://www.ferc.gov/docs-filing/elibrary.asp. Enter the docket number (P-13509) in the docket number field to access the document. For assistance, call toll-free 1-866-208-3372.

Kimberly D. Bose,
Secretary.

[FR Doc. E9-28920 Filed 12-3-09; 8:45 am]

BILLING CODE 6717-01-P